DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on August 23, 2001, at Whiskeytown National Park, California. The purpose of the meeting is to discuss issues relating to implementing the Northwest Forest Plan.

DATES: The meeting will be held August 23, 2001.

ADDRESSES: The meeting will be held in the Cafeteria Building of the National Environmental Education Development Camp at Whiskeytown National Park, CA.

FOR FURTHER INFORMATION CONTACT: Jackie Riley, Committee Coordiantor, USDA, Shasta-Trinity National Forest, 2400 Washington Ave., Redding, CA, 96001 (530) 242-2203; e-mail: jriley01@fs.fed.us.

SUPPLEMENTARY INFORMATION: The meeting is open to the public. Public input opportunity will be provided and individuals will have the opportunity to address the Committee at that time.

Dated: August 6, 2001.
J. Sharon Heywood,
Forest Supervisor.

[FR Doc. 01-20089 Filed 8-9-01; 8:45 am]

BILLING CODE 3410-FK-M